DEPARTMENT OF JUSTICE

National Institute of Corrections

Solicitation for a Cooperative Agreement—Assessment of Institutional Culture

AGENCY: National Institute of Corrections, Department of Justice.

ACTION: Solicitation for a cooperative agreement.

SUMMARY: The Department of Justice (DOJ), National Institute of Corrections (NIC) announces the availability of funds in FY-2000 for a cooperative agreement to develop and document a methodology and process to assess institutional culture within prison settings.

Background

Beginning in 1996 the Prisons Division initiated a special emphasis on addressing staff sexual misconduct. NIC's approach to assisting agencies has included on-site technical assistance, training programs and dissemination of information. Throughout the extensive work with institutions in addressing staff sexual misconduct, consistent themes from correctional staff and the offender population underscore the importance of the institutional environment. Additional work at NIC in the area of mission change of institutions and the identification of the challenges of keeping an effective workforce also provide background for NIC's interest in institutional culture. Staff and inmate relations, consistent and fair supervisors, well trained staff, and strong institutional and agency leadership teams are some of the components critical to a healthy environment highlighted by these projects. NIC's expanded interest in assessing institutional culture will be enhanced by this project's development of practical and data based assessment tools. The tools developed in this project to effectively assess an institution's culture will contribute to the next phase of NIC's strategic plan on Institutional Culture. These assessment tools will be used to develop strategic management plans for institutions that might include use of change agents, training and intensive assistance to influence or change an organization's culture.

Project Scope

The project on “Assessment of Institutional Culture” will provide for the development of methodology and a refinement of assessment tools for continuing NIC's ability to respond to correctional agencies in the critical area of institutional culture. The outcome of an institution specific cultural assessment process will provide critical information to correctional decision makers on managing complex dynamics within a prison environment.

The project objectives of this cooperative agreement are as follows:

• Conduct a review of work currently being managed within the NIC Prisons Division on staff sexual misconduct, mission change and prison workforce to more fully understand the assessment activities currently being used to assist agencies.

• Prepare a summary review of approaches being used by NIC, as well as other government and private organizations to assess cultural components or “drivers” of organizational or institutional culture. The review should include case examples with potential application to prison culture. Assessment components may include instrumentation, focus groups, on-site assessments and other cultural assessment tools. The review should include current thinking in the understanding of organizational culture and should recognize the complexity of collecting information in a custodial environment.

• Design a range of assessment tools/activities with suggested criteria for determining selection of these assessment activities based on possible presenting problems (e.g. increased institutional violence, high turnover, staff sexual misconduct) that are effective on an institutional level.

• Conduct on-site work at two facilities using recommended assessment tools. Facilities will be selected in consultation with NIC program manager.

• Develop a final report that documents the range of assessment tools or approaches with selection criteria or guidance for their use, documentation of the on-site work, and recommendations to NIC for further development of work in the area of institutional culture.

Specific Requirements

The successful applicant will propose a project approach that will ensure accomplishment of each of the stated objectives of this project. The applicant will assure that the project team offers technical expertise in the area of organizational or cultural assessment. The project design will reflect a prison based approach in understanding the application of current thinking in cultural assessment. Additional requirements include the following:

1. The selected applicant will be required to attend a preliminary meeting for the purposes of: an overview of current NIC work in the area of institutional culture; an overview of critical issues identified by practitioners; and a refinement of the project work plan.

2. Coordinate with NIC project director at critical points in the project.

Authority: Public Law 93-415

Funds Available

The award will be limited to $75,000 (direct and indirect costs) and project activity must be completed within 9 months of the date of award. The use of these funds does include the on-site work at two institutions and travel and per diem should be considered to accomplish these aspects of the project. Funds may not be used for construction, or to acquire or build real property. This project will be a collaborative venture with the NIC Prisons Division.

Application Requirements

Applications must prepare a proposal that defines their plan for meeting the goals and requirements of this project. They are expected to define the conceptual framework most appropriate and relevant and the methodology to be used in pursuing the project goals. In addition, they will identify a project staff in which all of the requisite skills are represented and who have made a commitment of time to the project. The proposal will demonstrate a practical and data based approach to effective assessment of institutional culture in prison settings.

Deadline for Receipt of Applications

Applications must be received by 4 pm on Wednesday, 6/28/00. They should be addressed to: Director, National Institute of Corrections, 320 First Street, NW, Room 5007, Washington, DC 20534. Hand delivered applications should be brought to 500 First Street, NW, Washington, DC 20534. The front desk will call Bobbi Tinsley at (202) 307-3106, extension 0 for pickup.

ADDRESSES AND FURTHER INFORMATION: Requests for the application kit, should be directed to Judy Evens, Cooperative Agreement Control Office, National Institute of Corrections, 320 First Street, NW, Room 5007, Washington, DC 20534 or by calling 800-995-6423, ext. 159, 202-307-3106, ext. 159, or e-mail: jevens@bop.gov. A copy of this announcement, application and forms may also be obtained through the NIC web site: http://www.nicic.org (click on “What's New” and “Cooperative Agreements”). All technical and/or programmatic questions concerning this announcement should be directed to Andie Moss, Project Manager, at 320 First Street, NW, Room 5007, Washington, DC 20534 or by calling 800-995-6423, ext. 140, 202-307-3106, ext. 140, or e-mail: amoss@bop.gov.

Eligibility Applicants: An eligible applicant is any state or general unit of local government, public or private agency, educational institution, organization, team, or individual with the requisite skills to successfully meet the outcome objectives of the project.

Review Considerations: Applications received under this announcement will be subjected to an NIC 3 to 5 member Peer Review Process.

Number of Awards: One (1).

NIC Application Number: 00P07. This number should appear as a reference line in your cover letter and also in box 11 of Standard Form 424.

Executive Order 12372

This program is subject to the provisions of Executive Order 12372. Executive Order 12372 allows States the option of setting up a system for reviewing applications from within their States for assistance under certain Federal programs. Applicants (other than Federally-recognized Indian tribal governments) should contact their State Single Point of Contact (SPOC), a list of which is included in the application kit, along with further instructions on proposed projects serving more than one State.

(Catalog of Federal Domestic Assistance Number: 16.603)
Dated: May 8, 2000.
Morris L. Thigpen,
Director, National Institute of Corrections.

[FR Doc. 00-11897 Filed 5-11-00; 8:45 am]

BILLING CODE 4410-36-M